FEDERAL COMMUNICATIONS COMMISSION

47 CFR Part 73

[DA 04-914; MM Docket No. 01-153, RM-10169]

Radio Broadcasting Services; Tilden, TX

AGENCY: Federal Communications Commission.

ACTION: Proposed rule; dismissal.

SUMMARY: In response to a Notice of Proposed Rule Making, 66 FR 38410 (July 24, 2001), this Report and Order dismisses the Petition for Rule Making in MM Docket No. 01-153, proposing to allot Channel 245C3 at Tilden, Texas. The proposal was dismissed because it is inconsistent with, and untimely filed in relation to, a previously-filed proposal in MM Docket No. 00-148.

FOR FURTHER INFORMATION CONTACT: Deborah A. Dupont, Media Bureau, (202) 418-2180.

SUPPLEMENTARY INFORMATION: This is a synopsis of the Commission's Report and Order, MM Docket No. 01-153, adopted April 2, 2004 and released April 5, 2004. The full text of this Commission decision is available for inspection and copying during normal business hours in the FCC's Reference Information Center at Portals II, 445 12th Street, SW., Room CY-A257, Washington, DC 20554. The document may also be purchased from the Commission's duplicating contractor, Qualex International, Portals II, 445 12th Street, SW., Room CY-B402, Washington, DC 20554, telephone 202-863-2893, facsimile 202-863-2898, or via e-mail qualexint@aol.com.

Federal Communications Commission.
John A. Karousos,
Assistant Chief, Audio Division, Media Bureau.

[FR Doc. 04-8685 Filed 4-15-04; 8:45 am]

BILLING CODE 6712-01-P